DEPARTMENT OF ENERGY

Federal Energy Regulatory Commission

Combined Notice of Filings #1

Take notice that the Commission received the following electric rate filings:

Docket Numbers: ER10-2211-004.

Applicants: Vandolah Power Company, L.L.C.

Description: Supplement to December 24, 2014 Triennial Compliance Filing of Vandolah Power Company, L.L.C.

Filed Date: 06/08/2015.

Accession Number: 20150608-5264.

Comment Date: 5 p.m. ET 6/29/15.

Docket Numbers: ER10-2231-004; ER10-1511-004; ER10-1714-004.

Applicants: Kentucky Utilities Company, LG&E Energy Marketing Inc., PPL EnergyPlus LLC, Louisville Gas and Electric Company.

Description: Fourth Supplement to June 30, 2014 Triennial Market Power Update of the PPL Southeast Companies.

Filed Date: 06/05/2015.

Accession Number: 20150605-5244.

Comment Date: 5 p.m. ET 6/26/15.

Docket Numbers: ER10-2265-005; ER12-21-016; ER11-2211-005; ER11-2209-005; ER11-2210-005; ER11-2207-005; ER11-2206-005; ER13-1150-003; ER13-1151-003; ER10-2783-011; ER10-2784-011 ; ER11-2855-016 ; ER10-2791-011; ER10-2333-004; ER10-2792-011; ER14-1818-005; ER12-1238-004; ER10-2260-003; ER10-2261-003; ER10-2337-006; ER14-1668-002; ER14-1669-002 ; ER14-1674-002; ER14-1670-002; ER14-1671-002; ER14-1675-002; ER14-1673-002; ER14-1676-002; ER14-1677-002; ER14-1678-002; ER14-1679-002; ER14-1672-002; ER10-2795-011; ER10-2798-011; ER10-1575-009; ER10-2339-007; ER10-2338-007; ER10-2340-007; ER12-1239-004; ER10-2336-004; ER10-2335-004; ER10-2799-011; ER10-2801-011; ER10-2385-005; ER11-3727-011; ER10-2262-002; ER12-2413-009; ER11-2062-014; ER10-2346-006; ER10-2812-010; ER10-1291-015; ER10-2843-009; ER11-2508-013; ER11-2863-008; ER11-4307-014; ER10-2347-004; ER10-2348-004; ER12-1711-011; ER10-2350-004; ER10-2846-011; ER12-261-013.

Applicants: NRG Power Marketing LLC, Agua Caliente Solar, LLC, Alta Wind I, LLC, Alta Wind II, LLC, Alta Wind III, LLC, Alta Wind IV, LLC, Alta Wind V, LLC, Alta Wind X, LLC, Alta Wind XI, LLC, Arthur Kill Power LLC, Astoria Gas Turbine Power LLC, Avenal Park LLC, Bayou Cove Peaking Power, LLC, Bendwind, LLC, Big Cajun I Peaking Power LLC, Boston Energy Trading and Marketing LLC, Broken Bow Wind, LLC, Cabrillo Power I LLC, Cabrillo Power II LLC, CL Power Sales Eight, L.L.C., Community Wind North 1 LLC, Community Wind North 2 LLC, Community Wind North 3 LLC, Community Wind North 5 LLC, Community Wind North 6 LLC, Community Wind North 7 LLC, Community Wind North 8 LLC, Community Wind North 9 LLC, Community Wind North 10 LLC, Community Wind North 11 LLC, Community Wind North 13 LLC, Community Wind North 15 LLC, Conemaugh Power LLC, Connecticut Jet Power LLC, Cottonwood Energy Company LP, CP Power Sales Seventeen, L.L.C., CP Power Sales Nineteen, L.L.C., CP Power Sales Twenty, L.L.C., Crofton Bluffs Wind, LLC, DeGreeff DP, LLC, DeGreeffpa, LLC, Devon Power LLC, Dunkirk Power LLC, Elkhorn Ridge Wind, LLC, El Segundo Energy Center LLC, El Segundo Power, LLC, Energy Alternatives Wholesale, LLC, Energy Plus Holdings LLC, Forward WindPower LLC, GenConn Devon LLC, GenConn Energy LLC, GenConn Middletown LLC, GenOn Energy Management, LLC, GenOn Mid-Atlantic, LLC, Green Mountain Energy Company, Groen Wind, LLC, High Lonesome Mesa, LLC, High Plains Ranch II, LLC, Hillcrest Wind, LLC, Huntley Power LLC, Independence Energy Group LLC.

Description: Notice of Non-Material Change in Status of NRG MBR Sellers [Part 1].

Filed Date: 6/8/15.

Accession Number: 20150608-5265.

Comments Due: 5 p.m. ET 6/29/15.

Docket Numbers: ER11-2777-003.

Applicants: Midcontinent Independent System Operator, Inc., Ameren Illinois Company.

Description: Offer of Settlement [including Pro Forma sheets] of Ameren Services Company on behalf of Ameren Illinois Company, et al.

Filed Date: 06/08/2015.

Accession Number: 20150608-5258.

Comment Date: 5 p.m. ET 6/29/15.

Docket Numbers: ER13-104-007.

Applicants: Florida Power & Light Company.

Description: Compliance filing per 35: FPL Order No. 1000 Further Regional Compliance Filings to be effective 1/1/2015.

Filed Date: 6/9/15.

Accession Number: 20150609-5070.

Comments Due: 5 p.m. ET 6/29/15.

Docket Numbers: ER14-1934-004; ER14-1935-004.

Applicants: Rising Tree Wind Farm LLC, Rising Tree Wind Farm II LLC.

Description: Notice of Non-Material Change in Status of Rising Tree Wind Farm LLC, et al.

Filed Date: 6/9/15.

Accession Number: 20150609-5080.

Comments Due: 5 p.m. ET 6/30/15.

Docket Numbers: ER15-1542-001.

Applicants: Midcontinent Independent System Operator, Inc.

Description: Compliance filing per 35: 2015-06-09_SA 2779 Compliance ATC-Wisconsin Electric CFA to be effective N/A.

Filed Date: 6/9/15.

Accession Number: 20150609-5027.

Comments Due: 5 p.m. ET 6/30/15.

Take notice that the Commission received the following electric reliability filings.

Docket Numbers: RD15-5-000.

Applicants: North American Electric Reliability Corporation.

Description: Petition of the North American Electric Reliability Corporation for Approval of Proposed Reliability Standards PRC-004-5 and PRC-010-2.

Filed Date: 06/08/2015.

Accession Number: 20150608-5260.

Comment Date: 5 p.m. ET 7/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2015.
Kimberly D. Bose,
Secretary.

[FR Doc. 2015-15289 Filed 6-22-15; 8:45 am]

BILLING CODE 6717-01-P